DEPARTMENT OF HEALTH AND HUMAN SERVICES

National Institutes of Health

National Institute of Child Health and Human Development; Amended Notice of Meeting

Notice is hereby given of a change in the meeting of the National Longitudinal Study of Environmental Effects on Child Health and Development, April 7, 2002, 11 AM to April 8, 2002, 5:30 PM, Sheraton Premiere Hotel, 8661 Leesburg Pike, Vienna, VA which was published in the Federal Register on March 18, 2002, 67 FR 52.

The meeting will be held April 7, 2002, 3:00 p.m. to April 9, 2002, 5:30 p.m., Sheraton Premiere Hotel, 8661 Leesburg Pike, Vienna, VA. The meeting is open to the public.

Dated: March 27, 2002.
LaVerne Y. Stringfield,
Director, Office of Federal Advisory Committee Policy.

[FR Doc. 02-8100 Filed 4-3-02; 8:45 am]

BILLING CODE 4140-01-M